DEPARTMENT OF ENERGY

Federal Energy Regulatory Commission

[Project No. 13837-000]

City of Whittier; Notice of Preliminary Permit Application Accepted for Filing and Soliciting Comments, Motions To Intervene, and Competing Applications

November 23, 2010.

On September 1, 2010, and supplemented on November 9, 2010, the City of Whittier filed an application for a preliminary permit, pursuant to section 4(f) of the Federal Power Act (FPA), proposing to study the feasibility of the Whittier Creek Hydroelectric Project (Whittier Creek project) to be located on Whittier Creek, in the Valdez-Cordova Borough, Alaska. The sole purpose of a preliminary permit, if issued, is to grant the permit holder priority to file a license application during the permit term. A preliminary permit does not authorize the permit holder to perform any land-disturbing activities or otherwise enter upon lands or waters owned by others without the owners' express permission.

The proposed project will consist of the following: (1) An approximately 100-foot-long, 20-foot-high reinforced concrete dam; (2) a 0.5-acre reservoir with a storage capacity of 10 acre-feet; (3) a 2,280-foot-long, 0.83-foot-diameter high density polyethylene penstock; (4) a 30-foot-long, 25-foot-wide powerhouse containing a 250-kilowatt turbine/generator unit; (5) a 100-foot-long, 5-foot-diameter steel tailrace; (6) an approximately 1,000-foot-long transmission line with an anticipated voltage between 4 kilovolts (kV) and 69 kV, connecting the proposed powerhouse to an existing switchyard; and (7) appurtenant facilities. The estimated annual generation of the Whittier Creek project would be 1,750 megawatt-hours.

Applicant Contact: Ed Barrett, City of Whittier, Alaska, P.O. Box 608, Whittier, AK 99693; phone: (907) 472-2327.

FERC Contact: Jennifer Harper, (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13837-000) in the docket number field to access the document. For assistance, contact FERC Online Support.

Kimberly D. Bose,
Secretary.

[FR Doc. 2010-30159 Filed 11-30-10; 8:45 am]

BILLING CODE 6717-01-P